FEDERAL TRADE COMMISSION

Agency Information Collection Activities; Submission for OMB Review; Comment Request

AGENCY: Federal Trade Commission (“Commission” or “FTC”).

ACTION: Notice.

SUMMARY: The FTC intends to conduct an evaluation of Admongo, its advertising literacy program for children ages 8-12. The evaluation will involve a randomized controlled trial of the Admongo online game, using an Internet panel recruited by a market research company. This research will be conducted to further the FTC's mission of protecting consumers from unfair and deceptive marketing. The information collection requirements described below are being submitted to the Office of Management and Budget (“OMB”) for review as required by the Paperwork Reduction Act (“PRA”).

DATES: Comments must be submitted on or before March 26, 2015.

ADDRESSES: Interested parties may file a comment online or on paper, by following the instructions in the Request for Comment part of the SUPPLEMENTARY INFORMATION section below. Write “Admongo Evaluation, FTC File No. P085200” on your comment, and file your comment online at https://ftcpublic.commentworks.com/ftc/admongoevaluationpra2, by following the instructions on the web-based form. If you prefer to file your comment on paper, mail your comment to the following address: Federal Trade Commission, Office of the Secretary, 600 Pennsylvania Avenue NW., Suite CC-5610 (Annex J), Washington, DC 20580, or deliver your comment to the following address: Federal Trade Commission, Office of the Secretary, Constitution Center, 400 7th Street SW., 5th Floor, Suite 5610 (Annex J), Washington, DC 20024.

FOR FURTHER INFORMATION CONTACT: Requests for additional information should be addressed to David Givens, Economist, Bureau of Economics, Federal Trade Commission, 600 Pennsylvania Avenue NW., Washington, DC 20580. Telephone: (202) 326-3397.

SUPPLEMENTARY INFORMATION:

I. Background

As the nation's consumer protection agency, the FTC is responsible for enforcing laws that prohibit unfair and deceptive advertising and marketing practices. Part of this mission involves educating consumers, including young consumers. In April 2010, the FTC launched a youth-directed, multi-media advertising literacy campaign called Admongo and distributed accompanying lesson plans to 100,000 educators in every U.S. public school with a fifth or sixth grade class. The Admongo program aims to help children from 8 to 12 become more discerning consumers of marketing information. The program has three broad objectives: (1) Raising awareness of advertising and marketing messages; (2) teaching critical thinking skills that will help children analyze and interpret advertisements; and (3) demonstrating the benefits of being an informed consumer. The program is designed to teach students specific skills: How to identify ads, how to identify the ways advertisers target certain groups of consumers, how to spot persuasive techniques commonly employed by ads, and how to apply an understanding of advertising techniques to make smarter purchase decisions. The campaign includes an online game, in-school lesson plans, training videos for teachers, and sample ads that can be used at home and in the classroom.

The public can utilize individual components of Admongo as desired, or alternatively, schools can integrate all the components to build a cohesive unit on advertising literacy. All materials are free and can be viewed at www.admongo.gov.

The proposed evaluation is designed to assess the impact of the Admongo online game. The game is an interactive teaching tool in which players advance to higher levels by mastering progressively more sophisticated topics in advertising. Players start by identifying ads, including logos and product placement; they advance to learning about the elements of advertising (graphics, copy, video, and audio) and then how advertisers target their ads. The game culminates in players creating their own video ad to target a specific audience.

The proposed evaluation seeks to measure the effect of playing the Admongo game on a child's level of advertising literacy, as measured by a test specially written for this purpose by FTC staff. The online game is the one component of the Admongo program that children can most easily discover, engage with, and learn from on their own. Cost effectiveness data will enable FTC staff to evaluate both this program and the potential use of other similar programs in the future. The FTC is particularly interested in the effect of game play on the ability to interpret real ads (i.e., to differentiate explicit and implied claims, identify particular persuasive techniques, and understand why they were chosen, etc.) and the ways in which the game's effect varies by age and other family and demographic characteristics.

II. Paperwork Reduction Act

Under the PRA, 44 U.S.C. 3501-3521, federal agencies must get OMB approval for each collection of information they conduct or sponsor. “Collection of information” means agency requests or requirements that members of the public submit reports, keep records, or provide information to a third party. 44 U.S.C. 3502(3), 5 CFR 1320.3(c).

On March 3, 2014, the FTC sought public comment on the information collection requirements associated with the proposed Admongo evaluation study. One comment was received. Pursuant to the OMB regulations, 5 CFR part 1320, that implement the PRA, the Commission is providing this second opportunity for public comment.

A. Description of the Collection of Information and Proposed Use

Subject to OMB approval, the FTC will conduct a randomized trial of the Admongo online game, involving 800 students, ages 8-12. A market research contractor will select students for participation from among its existing panelists. Students must have parental permission to participate in the evaluation. A randomly selected half of the participants will be assigned to a treatment group, and the remaining students will be assigned to a control group.

Treatment students will be instructed to play the Admongo online game from their homes for one hour and then to complete an advertising literacy test (also online) within the allotted time (20 minutes). To ensure that each treatment student's true exposure to the game is recorded accurately, her time spent playing (and other measures of her performance within the game) will be monitored and logged by the game's server. Control students will be instructed to take the test without playing the Admongo game. To ensure that control group members do not play the game, no mention will be made to these students about the existence of Admongo or its connection to the test they are instructed to take. To further ensure the integrity of the evaluation, the market research company will screen out any panelist who has been exposed to Admongo prior to this study.

Admongo's effect on ad literacy will be estimated from the difference in test scores between the control and treatment groups. Additional variables measuring demographic, financial, and family characteristics of the students, to the extent this information can be captured through a screening questionnaire that is administered to participants' parents, will increase the precision of Admongo's estimated impact and will reveal the influence of these factors on ad literacy.

The sample will be selected to mirror the U.S. population of 8-12 year-olds along a number of observable dimensions. However, because participation in the study is voluntary and based on a marketing research Internet panel, the sample may suffer from selection bias and may not constitute a nationally representative sample of 8-12 year-old American children. Therefore, the estimate of Admongo's impact, derived from this sample, will not generalize to the broader audience of all 8-12 year-old Americans.

B. Estimated Burden Hours

The proposed evaluation will involve 800 students ages 8-12. The half of the sample assigned to the treatment group will play the Admongo online game for one hour and then take a 20-minute advertising literacy test immediately afterwards. The time burden for the treatment-group totals 533 hours. The half of the sample assigned to the control group will take the test without playing the game. The time burden for the control group will be only the time required to take the test—133 hours in total. Finally, a parent of each participating student will be asked to complete a screening questionnaire, estimated to take 5 minutes. The aggregate time burden to complete the questionnaire totals 67 hours. Therefore, the total time burden for all participants equals 733 hours.

C. Estimated Costs

Participation will not impose any start-up, capital, or labor expenditures. The costs to respondents involve only the time expended to play the Admongo online game and/or take the online advertising literacy test or complete a screening questionnaire. Participation in the evaluation is voluntary; respondents are drawn from existing pools of Internet panelists (i.e., households that have already indicated they are willing and able to take part in Internet research), and participants and their parents are free to refuse the invitation to participate in any particular study. All students (or their parents) will be compensated at the standard rate by the market research company that recruits them and runs the experiment. Treatment-group students are expected to be compensated more than control-group students due to the former group's substantially larger time commitment.

D. Analysis of Comments Received

The Commission received one comment regarding the proposed collection of information. The commenter was a private citizen who offered several observations on the proposed study design. First, the commenter pointed out that the sample is restricted to children with Internet access at home, limiting the generalizability of the results. In response, we note that although use of an Internet panel may limit generalizability of results, the household-level information collected from a screening questionnaire administered to parents should at least provide information on how the sample differs from the universe of interest. Second, the commenter noted that an evaluation of Admongo's effectiveness could be helpful to the FTC's child-directed outreach efforts, but that if few children access Admongo, then a study of its effectiveness is not needed. In response, we point out that the objective of the proposed study is to evaluate the potential effectiveness of the Admongo online game, which is independent of the actual use of the game. A finding of a beneficial effect could lead to wider use of Admongo. Third, the commenter expresses concern that the control and treatment groups may differ in ways that will confound measurement of Admongo's effect. In response, we note that participating students within each age-sex cell will be randomly assigned to control and treatment groups, minimizing the chances that the groups will differ systematically. And, fourth, the commenter suggested asking participants' parents to certify that their children have received no assistance when completing the ad literacy test. In response, we find this a sensible suggestion and will consult with the market research company on the feasibility of obtaining such a certification from parents.

E. Request for Comment

You can file a comment online or on paper. For the Commission to consider your comment, we must receive it on or before March 26, 2015. Write “Admongo Evaluation, FTC File No. P085200” on your comment. Your comment, including your name and your state, will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, like anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which . . . is privileged or confidential,” as discussed in Section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and you have to follow the procedure explained in FTC Rule 4.9(c), 16 CFR 4.9(c).¹ Your comment will be kept confidential only if the FTC General Counsel grants your request in accordance with the law and the public interest.

¹ In particular, the written request for confidential treatment that accompanies the comment must include the factual and legal basis for the request, and must identify the specific portions of the comment to be withheld from the public record. See FTC Rule 4.9(c), 16 CFR 4.9(c).

Postal mail addressed to the Commission is subject to delay due to heightened security screening. As a result, we encourage you to submit your comments online. To make sure that the Commission considers your online comment, you must file it at http://ftcpublic.commentworks.com/ftc/admongoevaluationpra2, by following the instructions on the web-based form. If this Notice appears at http://www.regulations.gov/#!home, you also may file a comment through that Web site.

If you prefer to file your comment on paper, write “Admongo Evaluation, FTC File No. P085200” on your comment and on the envelope, and mail your comment to the following address: Federal Trade Commission, Office of the Secretary, 600 Pennsylvania Avenue NW., Suite CC-5610 (Annex J), Washington, DC 20580, or deliver your comment to the following address: Federal Trade Commission, Office of the Secretary, Constitution Center, 400 7th Street SW., 5th Floor, Suite 5610 (Annex J), Washington, DC 20024. If possible, submit your paper comment to the Commission by courier or overnight service.

Visit the Commission Web site at http://www.ftc.gov to read this Notice and the news release describing it. The FTC Act and other laws that the Commission administers permit the collection of public comments to consider and use in this proceeding as appropriate. The Commission will consider all timely and responsive public comments that it receives on or before March 31, 2015. For information on the Commission's privacy policy, including routine uses permitted by the Privacy Act, see http://www.ftc.gov/ftc/privacy.htm. For supporting documentation and other information underlying the PRA discussion in this Notice, see http://www.reginfo.gov/public/jsp/PRA/praDashboard.jsp.

David C. Shonka,
Principal Deputy General Counsel.

[FR Doc. 2015-03672 Filed 2-23-15; 8:45 am]

BILLING CODE 6750-01-P